LEGAL SERVICES CORPORATION

Notice of Availability of Calendar Year 2005 Competitive Grant Funds

AGENCY: Legal Services Corporation.

ACTION: Solicitation for proposals for the provision of Civil Legal Services.

SUMMARY: The Legal Services Corporation (LSC) is the national organization charged with administering Federal funds provided for civil legal services to low-income people.

LSC hereby announces the availability of competitive grant funds and is soliciting grant proposals from interested parties who are qualified to provide effective, efficient and high quality civil legal services to eligible clients in service areas OR-2, OR-4, OR-5, MOR, and NOR-1 in Oregon. The exact amount of congressionally appropriated funds and the date, terms and conditions of their availability for calendar year 2005 have not been determined.

DATES: See SUPPLEMENTARY INFORMATION section for grants competition dates.

ADDRESSES: Legal Services Corporation—Competitive Grants, 3333 K Street, NW., Third Floor, Washington, DC 20007-3522.

FOR FURTHER INFORMATION CONTACT: Office of Program Performance by e-mail at competition@lsc.gov, or visit the grants competition Web site at http://www.ain.lsc.gov.

SUPPLEMENTARY INFORMATION: The Request for Proposals (RFP) is available at http://www.ain.lsc.gov. Applicants must file a Notice of Intent to Compete (NIC) to participate in the competitive grants process.

Applicants competing for service areas OR-2, OR-4, OR-5, MOR, and/or NOR-1 in Oregon must file the NIC by July 30, 2004, 5 p.m. e.t. The due date for filing grant proposals for service areas in Oregon is August 27, 2004, 5 p.m. e.t.

LSC is seeking proposals from: (1) Non-profit organizations that have as a purpose the provision of legal assistance to eligible clients; (2) private attorneys; (3) groups of private attorneys or law firms; (4) State or local governments; and (5) sub-state regional planning and coordination agencies that are composed of sub-state areas and whose governing boards are controlled by locally elected officials.

The RFP, containing the NIC and grant application, guidelines, proposal content requirements, service area descriptions, and specific selection criteria, are available from http://www.ain.lsc.gov. LSC will not fax the RFP to interested parties.

Interested parties are asked to visit http://www.ain.lsc.gov regularly for updates on the LSC competitive grants process.

Dated: July 15, 2004.
Victor M. Fortuno,
Vice President for Legal Affairs, General Counsel, and Corporate Secretary, Legal Services Corporation.

[FR Doc. 04-16469 Filed 7-19-04; 8:45 am]

BILLING CODE 7050-01-P